DEPARTMENT OF HEALTH AND HUMAN SERVICES

Health Resources and Services Administration

Part F Special Projects of National Significance Program Cooperative Agreement Under the Ryan White HIV/AIDS Program

AGENCY: Health Resources and Services Administration (HRSA), HHS.

ACTION: Notice of Non-Competitive Supplemental Award of the Ryan White HIV/AIDS Program Part F Funds for the Special Projects of National Significance (SPNS) Program's Enhancing Linkages to HIV Care and Treatment in Jail Settings Initiative, Demonstration Sites. This supplement will cover the time period from September 1, 2011, through August 31, 2012.

SUMMARY: This Federal Register notice announces the non-competitive extension with funds of the Enhancing Linkages to HIV Care and Treatment in Jail Settings Initiative, Demonstration Sites (hereafter referred to as the SPNS Enhancing Linkages Initiative) in order to complete linkages to HIV medical care and support services for HIV positive individuals returning from jail settings to the community, follow-up data collection, analysis and dissemination of findings and lessons learned. The findings generated by this Initiative are capable of impacting service delivery systems and increasing linkages to critical HIV care and support services if the model programs can be adapted in jails and HIV service delivery settings across the United States, as well as to demonstrate that HIV testing and linkage to care in jail settings, and transitioning individuals to HIV care and treatment in the community is feasible and effective.

SUPPLEMENTARY INFORMATION:

Grantees of Record and Intended Award Amounts
Grantee/organization name | State | Grant No. | FY 2010 authorized funding level | FY 2011 authorized funding level
University of Illinois @ Chicago/The Board Of Trustees of The University of Illinois | IL | H97HA08534 | $399,424 | $296,937
Miriam Hospital (The) | RI | H97HA08535 | 399,991 | 299,109
AID Atlanta | GA | H97HA08536 | 399,997 | 299,602
Baystate Medical Center | MA | H97HA08537 | 400,000 | 300,000
New York City Department of Health & Mental Hygiene | NY | H97HA08538 | 400,000 | 300,000
AIDS Care Group | PA | H97HA08539 | 400,000 | 300,000
Philadelphia FIGHT | PA | H97HA08540 | 400,000 | 300,000
Yale University | CT | H97HA08541 | 400,000 | 300,000
University of South Carolina Research Foundation | SC | H97HA08542 | 400,000 | 300,000
Care Alliance Health Center | OH | H97HA08543 | 400,000 | 300,000

This list is sorted by Grant Number.

Authority: Section 2691 of the Public Health Service Act, 42 U.S.C. 300ff-101.

CFDA Number: 93.928.

Project period: September 1, 2007, to August 31, 2011. The period of support for the supplemental awards is from September 1, 2011 to August 31, 2012.

Justification for the Exception to Competition

Critical funding for linkages to HIV medical care, treatment services and supportive services to clients enrolled in the SPNS Enhancing Linkages Initiative will be continued through a non-competitive extension with funds to 10 existing grantees of record. This is a one-time extension with Part F Funds, as the grant recipients did not begin enrolling clients until late into the second year of the project period due to delays in receiving required human subjects research approvals. The SPNS Enhancing Linkages Initiative grantees are the best qualified to ensure the continuity of care, and provide critical services to the service population until all clients are successfully transitioned to routine Ryan White HIV/AIDS Program care and services.

FOR FURTHER INFORMATION CONTACT: Adan Cajina, Chief, Demonstration and Evaluation Branch, by e-mail acajina@hrsa.gov, or via telephone, 301-443-3180.

Dated: May 13, 2011.
Mary K. Wakefield,
Administrator.

[FR Doc. 2011-12483 Filed 5-19-11; 8:45 am]

BILLING CODE 4165-15-P